DEPARTMENT OF AGRICULTURE

Agricultural Marketing Service

[Doc. No. AMS-TM-24-0073]

Request for Extension of an Information Collection—Agritourism Directory

AGENCY: Agricultural Marketing Service, U.S. Department of Agriculture.

ACTION: Notice and request for comments.

SUMMARY: This notice announces the Agricultural Marketing Service's (AMS) intention to request approval from the Office of Management and Budget, for extension of a currently approved collection titled: Agritourism Directory, from the Office of Management and Budget 0581-0332. Under the Agricultural Marketing Act of 1946, as amended, AMS is responsible for conducting research to enhance market access for small and medium sized farmers. The role of the Local and Regional Foods Division of AMS is to facilitate the fair and efficient marketing of U.S. agricultural products. This information is used to populate the USDA's National Local Food Directories that assists customers looking to buy fresh local foods for their families to wholesale food buyers.

DATES: Comments on this notice must be received by March 24, 2025 to be assured of consideration.

ADDRESSES: Interested persons are invited to submit comments concerning this notice. Comments should be submitted online at https://www.regulations.gov or mailed to Americo Vega-Labiosa, Local and Regional Foods Division, Transportation and Marketing Program, Agricultural Marketing Service, U.S. Department of Agriculture, 1400 Independence Ave. SW, Room 1529 South Building, Ag Stop 0264, Washington, DC 20250-0264. Comments should reference the document number and the date and page number of this issue of the Federal Register. Comments submitted in response to this notice will be included in the public record and can be viewed at: https://www.regulations.gov. Please be advised that the identity of the individuals or entities submitting the comments will be made public on the internet at the address provided above.

FOR FURTHER INFORMATION CONTACT: Americo Vega-Labiosa, Local and Regional Foods Division, Transportation and Marketing Program, Agricultural Marketing Service, U.S. Department of Agriculture, 1400 Independence Ave. SW, Room 1529 South Building, Ag Stop 0264, Washington, DC 20250-0264; Telephone: (202) 384-8936 or Email: americoj.vega-labiosa@usda.gov.

SUPPLEMENTARY INFORMATION:

Title: Agritourism Directory.

OMB Number: 0581-0332.

Expiration Date of Approval: January 31, 2025.

Type of Request: Extension and revision of a currently approved information collection.

Abstract: Under the Agricultural Marketing Act of 1946, as amended (7 U.S.C. 1621 et seq.), AMS is responsible for conducting research to enhance market access for small and medium sized farmers. The role of the Local and Regional Foods Division (LFRD) of AMS is to facilitate distribution of U.S. agricultural products. The division identifies marketing opportunities, provides analysis to help take advantage of those opportunities and develops and evaluates strategies including methods to diversify farming operations of direct from farm-to-customer enterprises.

The definitions of farmers markets, on-farm markets, community-supported agriculture (CSA), and food hubs, as utilized by AMS for the purposes of the Local Food Directories and Survey are listed below.

An agritourism operation is a working farm, ranch, aquaculture and agroforestry. An agritourism directory is a list of working farms, ranches, aquaculture and agroforestry operations that provide education and recreation opportunities, active-involvement experiences (e.g., farming activities, processing), as well as retailing and hospitality (e.g., accommodations, dining) facilities and services for the enjoyment of visitors that generate supplemental income, create and grow farm product markets i.e., for local foods, and build understanding of agriculture. A working farm, ranch, aquaculture or agroforestry operation is defined as an area of land and buildings, or water (ponds, lakes, rivers, oceans), including within and around cities, that is currently being utilized to raise and grow domesticated animals, plants, trees, and freshwater and marine fish and shellfish, for food and beverages, including vegetables, fruits, herbs, meats, dairy products, oils, cereals, fish and shellfish, and products for direct sales to customers, and/or immediate consumption or enjoyment of customers, that are grown or processed there (e.g., Christmas trees, pinyon seeds, ginseng, wool, wine, beer, cheeses, nursery plants).

An on-farm market is a single farm operation that sells agricultural and/or horticultural products directly to customers on its farm property or on property adjacent to its farm. Most products sold at the on-farm market are either grown on the proprietor's farm or are sourced from neighboring farms. An on-farm market may operate seasonally or year-round. On-farm markets are an important component of direct marketing, adding value by offering customers a visit to the farm and the opportunity to purchase products from the people who grew them.

A CSA enterprise is defined as a farm or network/association of multiple farms that offer customers regular (usually weekly) deliveries of locally-grown farm products during one or more harvest season(s) on a subscription or membership basis. Customers have access to a selected share or range of farm products offered by a single farm or group of farmers based on partial or total advance payment of a subscription or membership fee. The up-front working capital generated by selling shares reduces the financial risk to the farmer(s). Generally, farmers receive better prices for their crops and have reduced marketing costs. Consumers benefit by receiving a periodic (usually weekly) delivery of fresh locally-grown fruits, vegetables, meats, eggs and other produce. They also benefit from the ability to collectively support the sustainability of local farmers.

A food hub is a business or organization that actively manages the aggregation, distribution, and marketing of source-identified food products to multiple buyers from multiple producers, primarily local and regional producers, to strengthen the ability of these producers to satisfy local and regional wholesale, retail, and institutional demand. This marketing channel also allows farm operators to capture a larger share of consumers' food dollar.

This information will be used to continue building the USDA National Local Food Directories describing the characteristics of local food operations and working farms.

Topic areas in the survey:

—Characteristics of local food business

—Contact information

—Types of products sold

—Location of the business

—Operation schedule

—Activities

Estimate of Burden: Public reporting burden for this collection of information is estimated to average 5 minutes per entry.

Respondents: Local food businesses listing their information on USDA National Local Food Directories

Estimated Number of Potential Respondents: 15,000.

Estimated Total Potential Annual Responses to all Surveys: 500.

Maximum Estimated Total Annual Burden on All Respondents: 1,250 hours.

Comments: Comments are invited on: (1) whether the proposed collection of information is necessary for the proper performance of the functions of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All comments will become a matter of public record.

Melissa Bailey,
Associate Administrator, Agricultural Marketing Service.

[FR Doc. 2025-01610 Filed 1-22-25; 8:45 am]

BILLING CODE P